DEPARTMENT OF TRANSPORTATION

Federal Aviation Administration

14 CFR Part 39

[Docket No. 2000-NM-329-AD; Amendment 39-11988; AD 2000-23-16]

RIN 2120-AA64

Airworthiness Directives; Boeing Model 747 Series Airplanes Powered by Pratt & Whitney JT9D-3 and -7 Series Engines

AGENCY: Federal Aviation Administration, DOT.

ACTION: Final rule; correction.

SUMMARY: This document corrects a minor error that appeared in airworthiness directive (AD) 2000-23-16, that was published in the Federal Register on November 21, 2000 (65 FR 69862). The error resulted in a reference to a part number that does not exist. That AD is applicable to certain Boeing Model 747 series airplanes, and requires repetitive inspections and torque checks of the hanger fittings and strut forward bulkhead of the forward engine mount and adjacent support structure, and corrective actions, if necessary. That AD also provides for optional terminating action for the repetitive inspections and checks.

EFFECTIVE DATE: Effective December 6, 2000.

FOR FURTHER INFORMATION CONTACT: Tamara Anderson, Aerospace Engineer, Airframe Branch, ANM-120S, FAA, Seattle Aircraft Certification Office, 1601 Lind Avenue, SW., Renton, Washington 98055-4056; telephone (425) 227-2771; fax (425) 227-1181.

SUPPLEMENTARY INFORMATION: Airworthiness Directive (AD) 2000-23-16, amendment 39-11988, applicable to certain Boeing Model 747 series airplanes, was published in the Federal Register on November 21, 2000 (65 FR 69862). That AD requires repetitive inspections and torque checks of the hanger fittings and strut forward bulkhead of the forward engine mount and adjacent support structure, and corrective actions, if necessary. That AD also provides for optional terminating action for the repetitive inspections and checks.

As published, the amendment contained a minor error in Note 4 which identifies installation of two “BACW10BP* auxiliary power unit” washers. However, this part number does not exist, the correct part number is “BACW10BP*APU.” The letters “APU” were inadvertently defined as an acronym meaning “auxiliary power unit.” In all other respects, the original document is correct.

Since no other part of the regulatory information has been changed, the final rule is not being republished.

The effective date of this AD remains December 6, 2000.

§ 39.13 [Corrected]

On page 69864, in the third column, Note 4 of AD 2000-23-16 is corrected to read as follows:

2000-23-16 Boeing: Amendment 39-11988, Docket 2000-NM-329-AD.

* * * * *

Note 4: Installation of two BACW10BP*APU washers on Group A fasteners accomplished prior to the effective date of this AD in accordance with Boeing Service Bulletin 747-54A2159, dated November 3, 1994, Revision 1, dated June 1, 1995, or Revision 2, dated March 14, 1996; and pin or bolt protrusion as specified in the 747 Structural Repair Manual, Chapter 51-30-02 (both referenced in Boeing Alert Service Bulletin 747-54A2203, dated August 31, 2000); is considered acceptable for compliance with the terminating action specified in paragraph (b) of this AD.

* * * * *

Issued in Renton, Washington, on December 13, 2000.
Dorenda D. Baker,
Acting Manager, Transport Airplane Directorate, Aircraft Certification Service.

[FR Doc. 00-32315 Filed 12-20-00; 8:45 am]

BILLING CODE 4910-13-U